FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 1167F.

Name: A & F Forwarding, Inc.

Address: 26 Broadway #732, New York, NY 10004.

Date Revoked: July 19, 2003.

Reason: Failed to maintain a valid bond.

License Number: 3877F.

Name: Angelita Ojeda dba A & A International Shipping.

Address: 15302 Southern Breeze Court, Houston, TX 77049.

Date Revoked: July 23, 2003.

Reason: Failed to maintain a valid bond.

License Number: 4058NF.

Name: Basic Shipping U.S.A., Inc.

Address: 39-01 Main Street, Ste. 209, Flushing, NY 11354.

Date Revoked: July 13, 2003.

Reason: Failed to maintain valid bonds.

License Number: 17414N.

Name: Cargo Care, Inc.

Address: 1300-C South Finley Road, Suite 104, Lombard, IL 60148.

Date Revoked: July 16, 2003.

Reason: Surrendered license voluntarily.

License Number: 4545F.

Name: Cypress Cargo, Corp.

Address: 8444 NW 66th Street, Miami, FL 33166.

Date Revoked: July 16, 2003.

Reason: Failed to maintain a valid bond.

License Number: 15704N.

Name: Douglas Logistics International, Inc.

Address: 13126 S. Broadway Street, Los Angeles, CA 90061.

Date Revoked: July 14, 2003.

Reason: Failed to maintain a valid bond.

License Number: 4064F.

Name: Gilbert International, Inc.

Address: 2525 Brunswick Avenue, Suite 204, Linden, NJ 07036.

Date Revoked: July 7, 2003.

Reason: Failed to maintain a valid bond.

License Number: 13386N.

Name: Globetrans Inc.

Address: 2255 Morello Avenue, Suite 166, Pleasant Hill, CA 94523.

Date Revoked: July 3, 2003.

Reason: Failed to maintain a valid bond.

License Number: 3394F.

Name: Hartford Despatch & Warehouse Company, Inc., dba Hartford Despatch International.

Address: 225 Prospect Street, East Hartford, CT 06108.

Date Revoked: July 20, 2003.

Reason: Failed to maintain a valid bond.

License Number: 15992N.

Name: Hyung Joong Ko dba Baro Logistics Co.

Address: 616 W. Commonwealth Avenue, Suite E, Fullerton, CA 92832.

Date Revoked: June 28, 2003.

Reason: Failed to maintain a valid bond.

License Number: 1995N.

Name: La Rosa Del Monte Express, Inc.

Address: 1133-35 Tiffany Street, Bronx, NY 10459.

Date Revoked: July 2, 2003.

Reason: Failed to maintain a valid bond.

License Number: 15915N.

Name: Master's Container Line, Inc.

Address: 767 Lexington Avenue, Suite 306, New York, NY 10021

Date Revoked: July 18, 2003.

Reason: Failed to maintain a valid bond.

License Number: 2957F.

Name: Michael J. Loprimo.

Address: 1078 Route 112, Suite 164, Port Jefferson, NY 11776.

Date Revoked: June 30, 2003.

Reason: Failed to maintain a valid bond.

License Number: 2896F.

Name: Moving and Packing (M.A.P.) International, Inc.

Address: 2303 Nance Street, Houston, TX 77020.

Date Revoked: July 16, 2003.

Reason: Failed to maintain a valid bond.

License Number: 4383F.

Name: Relogistics Worldwide, Inc.

Address: 6910 N. Shadeland Avenue, Suite 230, Indianapolis, IN 46220.

Date Revoked: July 10, 2003.

Reason: Failed to maintain a valid bond.

License Number: 3946F.

Name: Skyway International Cargo, Inc.

Address: 30665 Beverly Road, Romulus, MI 48174.

Date Revoked: July 17, 2003.

Reason: Failed to maintain a valid bond.

License Number: 3612F.

Name: Sofana Freight Forwarding Corp. USA

Address: 1295 Northern Blvd., Manhasset, NY 11030.

Date Revoked: July 23, 2003.

Reason: Failed to maintain a valid bond.

License Number: 16456NF.

Name: Star Container Lines, Inc.

Address: 12919 S. Figueroa Street, Los Angeles, CA 90061.

Date Revoked: July 11, 2003.

Reason: Surrendered license voluntarily.

License Number: 4189F.

Name: Terrace Express, Inc.

Address: 8151 E. Bailey Way, Anaheim, CA 92808.

Date Revoked: July 20, 2003.

Reason: Failed to maintain a valid bond.

License Number: 4164NF.

Name: Tober Group, Inc.

Address: 1948 Troutman Street, Ridgewood, NY 11385.

Date Revoked: July 5, 2003.

Reason: Failed to maintain valid bonds.

License Number: 15907N.

Name: Transportes Al Sud (Transalsud) S.A.

Address: 10 Elvira Mendez Street, P.O. Box 7392, Panama 5, Panama.

Date Revoked: July 23, 2003.

Reason: Failed to maintain a valid bond.

Ronald D. Murphy,
Deputy Director, Bureau of Consumer Complaints and Licensing.

[FR Doc. 03-20065 Filed 8-6-03; 8:45 am]

BILLING CODE 6730-01-P